FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 009857-010.

Title: Florida-Caribbean Cruise Association.

Parties: Carnival Cruise Lines; Celebrity Cruises; Costa Cruise Lines; Cunard Line; Disney Cruise Line; Holland America Line; MSC Cruises (USA) Inc.; Norwegian Cruise Line; Princess Cruises; Radisson Seven Seas Cruises; Royal Caribbean International; and Windstar Cruises.

Filing Party: Matthew Thomas, Esq.; Troutman Sanders LLP; 401 9th Street NW., Suite 1000; Washington, DC 20004-2134.

Synopsis: The amendment removes Topaz International Cruises as a party to the agreement.

Agreement No.: 011587-013.

Title: United States South Europe Conference.

Parties: A.P. Moller-Maersk A/S; P&O Nedlloyd Limited; and Hapag-Lloyd Container Linie GmbH.

Filing Party: Wayne R. Rohde, Esq.; Sher & Blackwell; 1850 M Street, NW., Suite 900; Washington, DC 20036.

Synopsis: The amendment removes Hapag-Lloyd as a party to the agreement.

Agreement No.: 011637-012.

Title: AMPAC Cooperative Working Agreement.

Parties: Hamburg-Sd and Compania Chilena de Navegacion Interoceanica, S.A.

Filing Party: Wayne R. Rohde, Esq.; Sher & Blackwell LLP; 1850 M Street NW., Suite 900; Washington, DC 20036.

Synopsis: The amendment deletes the Far East from the geographic scope, reduces the number and size of vessels deployed under the agreement, establishes a new minimum duration for the revised agreement, makes various corresponding and technical changes, and restates the agreement.

By order of the Federal Maritime Commission.
Dated: December 9, 2005.
Bryant L. VanBrakle,
Secretary.

[FR Doc. E5-7340 Filed 12-13-05; 8:45 am]

BILLING CODE 6730-01-P